FEDERAL COMMUNICATIONS COMMISSION

[CC Docket 98-67; DA 02-1006]

Telecommunications Relay Services Applications for State Certification and Renewal of Current Certification Accepted until October 1, 2002

AGENCY: Federal Communications Commission.

ACTION: Notice.

SUMMARY: This document announces that the Federal Communications Commission will accept applications for the renewal of state telecommunications relay services (TRS) program certification from July 26, 2002 until October 1, 2002. Current state certification expires July 26, 2003. The Commission's rules provide that states may apply for a renewal of their certified state TRS program one year prior to the expiration of their current certification.

DATES: TRS applications for state certifications and renewal certifications are due on or before October 1, 2002.

ADDRESSES: See SUPPLEMENTARY INFORMATION.

FOR FURTHER INFORMATION CONTACT: For more information about the TRS state certification and renewal certification, please contact Dana Jackson, of the Consumer and Government Affairs Bureau at (202) 418-2247 (voice), (202) 418-7898 (TTY) or e-mail dljackso@fcc.gov.

SUPPLEMENTARY INFORMATION: Parties who choose to submit by paper must submit an original and four copies of each filing on or before October 1, 2002. To expedite the processing of applications, applicants are encouraged to submit an additional copy to Attn: Dana Jackson, Federal Communications Commission, Consumer and Governmental Affairs Bureau, 445 12th Street, SW, Room 5-A741, Washington, DC 20554 or by e-mail at dljackso@fcc.gov. Applicants should also submit electronic disk copies of their application on a standard 3.5 inch diskette formatted in an IBM compatible format using Word 97 or compatible software. The diskette should be submitted in “read-only” mode and must be clearly labeled with the state's name, the filing date and captioned “TRS Certification Application.”

Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE, Suite 110, Washington, DC 20002. The filing hours at this location are 8:00 a.m. to 7:00 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW, Washington, DC 20554. All filings must be addressed to the Commission's Secretary, Marlene H. Dortch, Office of the Secretary, Federal Communications Commission, 445 12th Street, SW, Room TW-A325, Washington, DC 20554.

The filings and comments will be available for public inspection and copying during regular business hours at the FCC Reference Information Center, Portals II, 445 12th Street, SW, Room CY-A257, Washington, DC 20554. They may also be purchased from the Commission's duplicating contractor, Qualex International, Portals II, 445 12th Street, SW, Room CY-B402, Washington, DC 20554, telephone (202) 863-2893, facsimile (202) 863-2898, or via e-mail qualexint@aol.com. Copies of this document in other alternative formats (computer diskette, large print and Braille) are available to persons with disabilities by contacting Brian Millin, of the Consumer and Governmental Affairs Bureau at (202) 418-7426 (voice), (202) 418-7365 (TTY), or e-mail bmillin@fcc.gov. This Public Notice can also be downloaded in Text and ASCII formats at http://www.fcc.gov/cgb/dro.

Synopsis

The Commission's rules for the provision of TRS, pursuant to Title IV of the Americans with Disabilities Act, 47 U.S.C. 225, are codified at 47 CFR 64.601-605. Pursuant to 47 CFR 64.605(b), a state desiring certification of its TRS program must establish that:

(1) The state program meets or exceeds all operational, technical, and functional minimum standards contained in 47 CFR 64.604;

(2) The state program makes available adequate procedures and remedies for enforcing the state program; and

(3) Where a state program exceeds the mandatory minimum standards contained in Section 64.604, the state establishes that its program in no way conflicts with federal law.

Pursuant to 47 CFR 64.605(a), documentation must be submitted through the state's office of the governor or other delegated executive office empowered to provide TRS. All documentation in support of the application must be submitted in narrative form, and must clearly describe the state program for implementing intrastate TRS, and the procedures and remedies for enforcing any requirements imposed by the state program. To the maximum extent possible, states should provide historical, statistical, and illustrative evidence demonstrating compliance with the Commission's TRS rules.

Upon receipt, the Commission will give public notice of state TRS certification applications and provide notification in the Federal Register, pursuant to 47 CFR 64.605(a). Interested parties will be invited to comment on each application within a period of time set by the Commission. In the event that a state's application is opposed or incomplete, the Commission may contact the responsible state officer to seek further documentation. If it appears that a state program will not meet certification requirements, the Commission will send notice to the responsible state officer prior to July 26, 2003, giving the state an opportunity to demonstrate that it has taken, or will take measures to bring its program into compliance with the Commission rules by July 26, 2003.

The Commission will act to approve the applications for certification of states that demonstrate compliance with all applicable requirements of the Commission's rules on or before July 26, 2003. Approved certifications will be in effect for five (5) years until July 26, 2008 pursuant to 47 CFR 64.605(c). In the event a state does not apply for certification, the Commission will contact common carriers providing voice transmission service in that state to ensure that TRS service meeting the Commission minimum operational, functional and technical standards is available within their service areas. See 47 U.S.C. 225(c).

Federal Communications Commission.
Margaret M. Egler,
Deputy Chief, Consumer and Governmental Affairs Bureau.

[FR Doc. 02-13919 Filed 6-3-02; 8:45 am]

BILLING CODE 6712-01-P